DEPARTMENT OF HOUSING AND URBAN DEVELOPMENT

[Docket No. FR-5375-N-16]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Energy: Mr. Mark Price, Department of Energy, Office of Engineering & Construction Management, MA-50, 1000 Independence Ave., SW., Washington, DC 20585: (202) 586-5422; Interior: Mr. Michael Wright, Acquisition & Property Management, Department of the Interior, 1849 C Street, NW., MS2603, Washington, DC 20240; (202) 208-5399; Navy: Mr. Albert Johnson, Department of the Navy, Asset Management Division, Naval Facilities Engineering Command, Washington Navy Yard, 1330 Patterson Ave., SW., Suite 1000, Washington, DC 20374; (202) 685-9305; (These are not toll-free numbers).

Dated: April 22, 2010.
Mark R. Johnston,
Deputy Assistant Secretary for Special Needs.

Title V, Federal Surplus Property Program Federal Register Report for 04/30/2010

Unsuitable Properties Building

California

APN-#109-20-45

1390 Limantour Dr.

Point Reyes Station CA 94956

Landholding Agency: Interior

Property Number: 61201020001

Status: Unutilized

Reasons: Extensive deterioration

Maryland

Bldgs. 439, 440/3.28 acres

Naval Air Station

Patuxent River MD

Landholding Agency: Navy

Property Number: 77201020001

Status: Underutilized

Reasons: Secured Area

8 Bldgs.

Naval Support Activity

Indian Head MD 20640

Landholding Agency: Navy

Property Number: 77201020002

Status: Underutilized

Directions: Bldgs. Nos. 290, 525, 554, 624, 625, 1858, 1894, and 3035

Reasons: Secured Area

Structure 511

Naval Air Station

Patuxent River MD 20670

Landholding Agency: Navy

Property Number: 77201020004

Status: Excess

Reasons: Secured Area

Nevada

Approx 200 Misc Blgs/Structure

Tonopah Test Range

Tonopah NV 89049

Landholding Agency: Energy

Property Number: 41201020001

Status: Excess

Directions: Nellis AFB

Reasons: Extensive deterioration

New Jersey

3 Tracts

Delaware Water Nat'l Rec. Area

Montague Co: Sussex NJ 07827

Landholding Agency: Interior

Property Number: 61201020002

Status: Unutilized

Directions: Nos. 10839-5, 11233, and 11400

Reasons: Extensive deterioration

8 Tracts

Delaware Water Gap Nat'l Rec. Area

Walpack NJ 07881

Landholding Agency: Interior

Property Number: 61201020003

Status: Unutilized

Directions: Nos. 7055-1, 7107-1, 7613, 7820-2, 8201, 8215-1, and 8215-2

Reasons: Extensive deterioration

Tract 603-1

Delaware Water Gap Nat'l Rec. Area

Pahaquarry Co: Warren NJ 07825

Landholding Agency: Interior

Property Number: 61201020004

Status: Unutilized

Reasons: Extensive deterioration

Tract 10208

Delaware Water Gap Nat'l Rec. Area

Sandyston Co: Sussex NJ 07826

Landholding Agency: Interior

Property Number: 61201020005

Status: Unutilized

Reasons: Extensive deterioration

Oregon

Painted Hills Quarter

37375 Bear Creek Rd.

Mitchell Co: Wheeler OR 97750

Landholding Agency: Interior

Property Number: 61201020006

Status: Unutilized

Reasons: Extensive deterioration

Pennsylvania

9 Tracts

Delaware Water Gap Nat'l Rec. Area

Dingmans Ferry Co: Pike PA 18328

Landholding Agency: Interior

Property Number: 61201020007

Status: Unutilized

Directions: Nos. 1077, 8548, 8548-#51, 10139, 10552, 10964, 11329, 11904, and 12104

Reasons: Extensive deterioration

3 Bldgs.

Delaware Water Gap Nat'l Rec. Area

Middle Smithfield Co: Monroe PA 18301

Landholding Agency: Interior

Property Number: 61201020008

Status: Unutilized

Directions: Bldg Nos. 919, 1359, and 1522

Reasons: Extensive deterioration

Tract 7300

Delaware Water Gap Nat'l Rec. Area

Bushkill Co: Pike PA 18324

Landholding Agency: Interior

Property Number: 61201020009

Status: Unutilized

Reasons: Floodway and Extensive deterioration

3 Tracts

Delaware Water Gap Nat'l Rec. Area

Milford Co: Pike PA 18337

Landholding Agency: Interior

Property Number: 61201020010

Status: Unutilized

Directions: Nos. 12415, 12424, and 12848

Reasons: Floodway and Extensive deterioration

Virginia

Bldg. SDA-215

Naval Support Activity

Norfolk VA 23551

Landholding Agency: Navy

Property Number: 77201020006

Status: Excess

Reasons: Secured Area and Extensive deterioration

Washington

Watermaster's Office

205 N. Washington Way

George Co: Grant WA 98848

Landholding Agency: Interior

Property Number: 61201020011

Status: Unutilized

Reasons: Extensive deterioration

4 Bldgs.

Naval Base

Kitsap WA

Landholding Agency: Navy

Property Number: 77201020005

Status: Unutilized

Directions: Bldg. Nos. 499, 806, 929, and 5436

Reasons: Secured Area

Land

Maryland

Site A: 6.2 acres

Naval Support Activity

Indian Head MD 20640

Landholding Agency: Navy

Property Number: 77201020003

Status: Underutilized

Reasons: Secured Area

[FR Doc. 2010-9766 Filed 4-29-10; 8:45 am]

BILLING CODE 4210-67-P